DEPARTMENT OF COMMERCE

National Oceanic and Atmospheric Administration

50 CFR Part 679

[Docket No. 170816769-8162-02]

RIN 0648-XG685

Fisheries of the Exclusive Economic Zone Off Alaska; Inseason Adjustment to the 2019 Gulf of Alaska Pollock Total Allowable Catch Amounts

AGENCY: National Marine Fisheries Service (NMFS), National Oceanic and Atmospheric Administration (NOAA), Commerce.

ACTION: Temporary rule; inseason adjustment; request for comments.

SUMMARY: NMFS is adjusting the 2019 total allowable catch (TAC) amount for the Gulf of Alaska (GOA) pollock fishery. This action is necessary because NMFS has determined this TAC is incorrectly specified, and will ensure the GOA pollock TAC is the appropriate amount based on the best available scientific information for pollock in the GOA. This action is consistent with the goals and objectives of the Fishery Management Plan for Groundfish of the Gulf of Alaska.

DATES: Effective 0000 hours, Alaska local time (A.l.t.), January 1, 2019, until the effective date of the final 2019 and 2020 harvest specifications for GOA groundfish, unless otherwise modified or superseded through publication of a notification in the Federal Register.

Comments must be received at the following address no later than 4:30 p.m., A.l.t., January 22, 2019.

ADDRESSES: Submit your comments, identified by NOAA-NMFS-2018-0103 by any of the following methods:

• Federal e-Rulemaking Portal: Go to www.regulations.gov/#!docketDetail;D=NOAA-NMFS-2018-0103, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: NMFS may not consider comments if they are sent by any other method, to any other address or individual, or received after the comment period ends. All comments received are a part of the public record, and NMFS will post the comments for public viewing on www.regulations.gov without change. All personal identifying information (e.g., name, address), confidential business information, or otherwise sensitive information submitted voluntarily by the sender will be publicly accessible. NMFS will accept anonymous comments (enter “N/A” in the required fields if you wish to remain anonymous).

FOR FURTHER INFORMATION CONTACT: Obren Davis, 907-586-7228.

SUPPLEMENTARY INFORMATION: NMFS manages the groundfish fishery in the GOA exclusive economic zone according to the Fishery Management Plan for Groundfish of the Gulf of Alaska (FMP) prepared by the North Pacific Fishery Management Council (Council) under authority of the Magnuson-Stevens Fishery Conservation and Management Act. Regulations governing fishing by U.S. vessels in accordance with the FMP appear at subpart H of 50 CFR part 600 and 50 CFR part 679.

The final 2018 and 2019 harvest specifications for groundfish in the GOA (83 FR 8768, March 1, 2018) set the 2019 pollock TAC at 112,678 metric tons (mt) in the GOA. In December 2018, the North Pacific Fishery Management Council (Council) recommended a 2019 pollock TAC of 141,227 mt for the GOA, which is more than the 112,678 mt established by the final 2018 and 2019 harvest specifications for groundfish in the GOA. The Council's recommended 2019 TAC, and the area and seasonal apportionments, is based on the Stock Assessment and Fishery Evaluation report (SAFE), dated November 2018.

NMFS has subsequently determined that the Council's GOA Groundfish Plan Team incorrectly calculated the seasonal and annual ABCs for Statistical Areas 620 and 630 when summarizing the November 2018 SAFE report. These incorrect amounts were presented to the Council and the Council subsequently adopted the incorrect amounts in its recommendations for the final 2019 harvest specifications for groundfish in the GOA. The incorrect amounts were 71,459 mt for Statistical Area 620 and 30,372 mt for Statistical Area 630.

The correct pollock ABCs and TACs should have been 67,388 mt and 34,443 mt for Statistical Areas 620 and 630, respectively. This results in a 4,071 mt increase in the pollock ABC and TAC for Statistical Area 630 and a decrease of 4,071 mt for the pollock ABC and TAC for Statistical Area 620. This action incorporates the correct ABC and TAC amounts into the final 2019 distribution of pollock in the Western and Central Regulatory Areas of the GOA in Table 4, below. The correct amounts also will be incorporated into the final 2019 harvest specifications for groundfish in the GOA, as well as the 2018 SAFE report.

Steller sea lions occur in the same location as the pollock fishery and are listed as endangered under the Endangered Species Act (ESA). Pollock is a principal prey species for Steller sea lions in the GOA. The seasonal apportionment of pollock harvest is necessary to ensure the groundfish fisheries are not likely to cause jeopardy of extinction or adverse modification of critical habitat for Steller sea lions. The regulations at § 679.20(a)(5)(iv) specify how the pollock TAC will be apportioned.

In accordance with § 679.25(a)(1)(iii), (a)(2)(i)(B), and (a)(2)(iv) the Administrator, Alaska Region, NMFS (Regional Administrator), has determined that, based on the best available scientific information for this fishery, the current GOA pollock TAC is incorrectly specified. Consequently, pursuant to § 679.25(a)(1)(iii), the Regional Administrator is adjusting the 2019 GOA pollock TAC to 141,227 mt. Therefore, Table 2 of the final 2018 and 2019 harvest specifications for groundfish in the GOA (83 FR 8768, March 1, 2018) is revised consistent with this adjustment.

Pursuant to § 679.20(a)(5)(iv), Table 4 of the final 2018 and 2019 harvest specifications for groundfish in the GOA (83 FR 8768, March 1, 2018) is revised for the 2019 TACs of pollock in the Central and Western Regulatory Area of the GOA.

Table 4—Final 2019 Distribution of Pollock in the Western and Central Regulatory Areas of the GOA; Seasonal Biomass Distribution, Area Apportionments; and Seasonal Allowances of Annual TAC
[Values are rounded to the nearest metric ton and percentages are rounded to the nearest 0.01]
Season ¹ | Shumagin (Area 610) |  | Chirikof (Area 620) |  | Kodiak (Area 630) |  | Total ²
A (Jan 20-Mar 10) | 848 | 2.68% | 23,236 | 73.35% | 7,593 | 23.97% | 31,677
B (Mar 10-May 31) | 848 | 2.68% | 27,306 | 86.20% | 3,522 | 11.12% | 31,677
C (Aug 25-Oct 1) | 11,590 | 36.59% | 8,423 | 26.59% | 11,664 | 36.82% | 31,677
D (Oct 1-Nov 1) | 11,590 | 36.59% | 8,423 | 26.59% | 11,664 | 36.82% | 31,677
Annual Total | 24,875 |  | 67,388 |  | 34,443 |  | 126,706
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.
Note: Seasonal apportionments may not total precisely due to rounding.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would allow for harvests that exceed the appropriate allocation for pollock based on the best scientific information available. NMFS was unable to publish a notice providing time for public comment because the most recent, relevant data only became available as of December 21, 2018, and additional time for prior public comment would result in conservation concerns for the ESA-listed Steller sea lions.

The AA also finds good cause to waive the 30-day delay in the effective date of this action under 5 U.S.C. 553(d)(3). This finding is based upon the reasons provided above for waiver of prior notice and opportunity for public comment.

Under § 679.25(c)(2), interested persons are invited to submit written comments on this action to the above address until January 22, 2019.

This action is required by § 679.20 and § 679.25 and is exempt from review under Executive Order 12866.

Authority: 16 U.S.C. 1801 et seq.

Dated: December 27, 2018.
Samuel D. Rauch III,
Deputy Assistant Administrator for Regulatory Programs, National Marine Fisheries Service.

[FR Doc. 2018-28464 Filed 12-31-18; 8:45 am]

BILLING CODE 3510-22-P